DEPARTMENT OF HEALTH AND HUMAN SERVICES

Food and Drug Administration

[FDA 225-04-4006]

Memorandum of Understanding Between the State of Iowa, Department of Public Health, Bureau of Radiological Health, and the Food and Drug Administration

AGENCY: Food and Drug Administration, HHS.

ACTION: Notice.

SUMMARY: The Food and Drug Administration (FDA) is providing notice of a memorandum of understanding (MOU) between the State of Iowa, through the Iowa Department of Public Health, Bureau of Radiological Health (the Department), and FDA. The purpose is to authorize the state of Iowa, through the Department, to continue to conduct a State as certifiers program in Iowa under the Mammography Quality Standards Act as amended by the Mammography Quality Standards Reauthorization Act of 1998.

DATES: The agreement became effective August 26, 2004.

FOR FURTHER INFORMATION CONTACT: Joanne Choy, Division of Mammography Quality and Radiation Programs (HFZ-240), Food and Drug Administration, 1350 Piccard Dr., Rockville, MD 20850, 301-827-2963.

SUPPLEMENTARY INFORMATION: In accordance with 21 CFR 20.108(c), which states that all written agreements and MOUs between FDA and others shall be published in the Federal Register, the agency is publishing notice of this MOU.

Dated: June 30, 2005.
Jeffrey Shuren,
Assistant Commissioner for Policy.

BILLING CODE 4160-01-S

[FR Doc. 05-13634 Filed 7-11-05; 8:45 am]

BILLING CODE 4160-01-C